DEPARTMENT OF HEALTH AND HUMAN SERVICES

Office of the Secretary

Office for Civil Rights; Delegations of Authority

Notice is hereby given that I have delegated to the Director of the Office for Civil Rights the following authority vested in the Secretary of Health and Human Services.

A. Subpoenas for the Health Insurance Portability and Accountability Act of 1996: Authority under Section 205(d) of the Social Security Act (42 U.S.C. 405(d)), with authority to redelegate, to issue subpoenas requiring the attendance and testimony of witnesses and the production of any evidence that relates to any matter under investigation or compliance review for failure to comply with the Health Insurance Portability and Accountability Act of 1996 (HIPAA) standards and requirements related to the privacy of individually identifiable health information at 45 CFR parts 160 and 164.

Section 1176(a)(2) of the Social Security Act, 42 U.S.C. 1320d-5(a)(2), which provides authority for the imposition of civil money penalties (CMPs) for violations, makes section 1128A of the Social Security Act, 42 U.S.C. 1320a-7a, applicable to the imposition of CMPs for violations of the HIPAA administrative simplification standards. Section 1128A(j)(1), 42 U.S.C. 1320a-7a(j)(1), makes section 205(d) and (e) of the Social Security Act, 42 U.S.C. 405(d) and (e), applicable to section 1128A as the subsections are with respect to Title II of the Social Security Act. Section 205(d) and (e) authorizes the issuance of subpoenas requiring the attendance and testimony of witnesses and the production of any evidence that relates to any matter under investigation by the Secretary and the enforcement of such a subpoena in court in event of refusal to comply.

B. Subpoenas for the Patient Safety and Quality Improvement Act of 2005: Authority under Section 205(d) of the Social Security Act (42 U.S.C. 405(d)), with authority to redelegate, to issue subpoenas requiring the attendance and testimony of witnesses and the production of any evidence that relates to any matter under investigation or compliance review for failure to comply with the confidentiality provisions of the Patient Safety and Quality Improvement Act of 2005. Section 922(f)(2) of the Public Health Service Act, 42 U.S.C. 299b-22(f)(2), provides that section 1128A of the Social Security Act shall apply to CMPs under the Patient Safety and Quality Improvement Act of 2005. As noted above, section 1128A incorporates by reference section 205(d) and (e) of the Social Security Act, which authorizes the issuance and enforcement of subpoenas.

These delegations shall be exercised under the Department's existing delegation of authority on the issuance of regulations and existing policy on the issuance of regulations.

In addition, I hereby affirm and ratify any actions taken by the Director of the Office for Civil Rights or his subordinates which involved the exercise of the authority delegated herein prior to the effective date of these delegations.

These delegations are effective immediately.

Michael O. Leavitt,
Secretary.

[FR Doc. 07-1872 Filed 4-13-07; 8:45 am]

BILLING CODE 4153-01-M